DEPARTMENT OF THE INTERIOR

Bureau of Reclamation

[RR06250000, 20XR0680A1, RN.07694998.0000600]

Notice of Intent To Prepare an Environmental Impact Statement and Public Scoping Comment Period for the Eastern North Dakota Alternate Water Supply Project, Burleigh, Kidder, Sheridan, and Wells Counties, North Dakota

AGENCY: Bureau of Reclamation, Interior.

ACTION: Notice of Intent; request for comments.

SUMMARY: The Bureau of Reclamation (Reclamation) intends to prepare an Environmental Impact Statement (EIS) on the Eastern North Dakota Alternate Water Supply Project. Reclamation is requesting public comment to identify significant issues or other alternatives to be addressed in the EIS.

DATES: Submit comments on the scope of the EIS on or before December 13, 2019.

ADDRESSES: Provide written scoping comments and requests to be added to the mailing list to Mr. Damien Reinhart, EIS Team Lead, Bureau of Reclamation, Dakotas Area Office, 304 East Broadway Avenue, Bismarck, ND 58501; or email ENDAWS.EIS@usbr.gov.

FOR FURTHER INFORMATION CONTACT: Mr. Damien Reinhart, Bureau of Reclamation, Dakotas Area Office, 304 East Broadway Avenue, Bismarck, ND 58501; telephone (701) 202-1275; facsimile (701) 250-4326; email ENDAWS.EIS@usbr.gov. Persons who use a telecommunications device for the deaf may call the Federal Relay Service (FedRelay) at 1-800-877-8339 TTY/ASCII to contact the above individual during normal business hours or to leave a message or question after hours. You will receive a reply during normal business hours. Information on this project may also be found at: https://www.usbr.gov/gp/dkao/index.html.

SUPPLEMENTARY INFORMATION: Reclamation is issuing this notice pursuant to the National Environmental Policy Act of 1969, as amended (NEPA), 42 U.S.C. 4321 et seq.; the Council on Environmental Quality's regulations for implementing NEPA, 40 CFR parts 1500 through 1508; and the Department of the Interior's NEPA regulations, 43 CFR part 46.

Background

Reclamation will prepare an EIS for the funding and construction of the Eastern North Dakota Alternate Water Supply Project (ENDAWS). This is a bulk water supply project which would deliver an alternate water supply to the State of North Dakota's Red River Valley Water Supply Project. Reclamation is authorized under the Dakota Water Resources Act of 2000 to work with the state of North Dakota to plan, design, and construct municipal, rural, and industrial water supply projects.

Garrison Diversion Conservancy District, on behalf of the State of North Dakota, requested Reclamation consider issuing a contract for up to 165 cubic feet per second of water from Garrison Diversion Unit facilities. This would include the use of Reclamation's Snake Creek Pumping Plant, an intake and pump station located along the McClusky Canal, and a bulk transmission pipeline to deliver water to the main transmission pipeline of North Dakota's Red River Valley Water Supply Project. Reclamation's potential actions include:

• Construction of ENDAWS project features,

• Issuance of a water repayment contract for Garrison Diversion Unit facilities, and

• Issuance of permits to construct and maintain ENDAWS facilities on Reclamation rights-of-way.

Reclamation anticipates the depletion of Missouri River water to supply ENDAWS will be an issue of concern. The evaluation of this will be a coordinated effort between Reclamation and the U.S. Army Corps of Engineers due to their knowledge, expertise, and management responsibilities of the Missouri River Mainstem System. Another key issue to be evaluated is the potential risk and consequences of transferring aquatic invasive species from the Missouri River basin to the Hudson Bay basin, as a result of ENDAWS operations. Based on previous analyses of this issue, the following potential microorganisms of concern may be included in the analysis:

• Cyanobacteria

• Protozoa

• Fungi

• Bacteria

• Viruses

• Animal parasites

• Mollusk larvae

Reclamation requests any information relative to these issues or other potential issues be submitted during the scoping period to assist in determining their significance. Reclamation intends to complete an EIS for ENDAWS pursuant to NEPA to study the potential environmental effects of the proposal and a reasonable range of alternatives designed to respond to the purpose and need for the ENDAWS, as well as a no-action alternative. The scoping process is intended to inform the public about ENDAWS and to request public and agency comment to identify significant issues or alternatives to be addressed in the EIS. Three scoping open houses were held between October 22-24, 2019 in Bismarck, Jamestown, and Fargo, North Dakota. These open house meetings were held prior to the publication of this Notice as a means of gathering public input early in the process per NEPA Implementing Regulations (40 CFR 1501.7(b)(4)). Written comments received by December 15, 2019, and input received during the open houses will be given the same consideration.

Public Disclosure

Before including your address, phone number, email address, or other personal identifying information in your comment, you should be aware that your entire comment—including your personal identifying information—may be made publicly available at any time. While you may ask us in your comment to withhold your personal identifying information from public review, we cannot guarantee that we will be able to do so.

John Soucy,
Deputy Regional Director, Great Plains Region.

[FR Doc. 2019-24611 Filed 11-12-19; 8:45 am]

BILLING CODE 4332-90-P